Title 3—

The President

Proclamation 9492 of September 14, 2016

To Modify Duty-Free Treatment Under the Generalized System of Preferences

By the President of the United States of America

A Proclamation

1. Section 502 of the Trade Act of 1974, as amended (the “1974 Act”) (19 U.S.C. 2462), authorizes the President to designate countries as beneficiary developing countries, and to designate any beneficiary developing country as a least-developed beneficiary developing country, for purposes of the Generalized System of Preferences (GSP) program. Section 502(f)(1)(A) of the 1974 Act (19 U.S.C. 2462(f)(1)(A)) requires the President to notify the Congress before designating any country as a beneficiary developing country. Section 502(f)(1)(B) of the 1974 Act (19 U.S.C. 2462(f)(1)(B)) requires the President to notify the Congress at least 60 days before designating any country as a least-developed beneficiary developing country.

2. Pursuant to section 502(a)(1) of the 1974 Act, and taking into account the factors set forth in section 502(c) (19 U.S.C. 2462(c)), I have determined that the suspension pursuant to Proclamation 5955 of April 13, 1989, of preferential treatment for Burma as a beneficiary developing country under the GSP program should be ended, and I will so notify the Congress.

3. Pursuant to section 502(a)(2) of the 1974 Act, and having considered the factors set forth in sections 501 (19 U.S.C. 2461) and 502(c), I have also determined that Burma should be designated as a least-developed beneficiary developing country for purposes of the GSP program, and I will so notify the Congress.

4. Section 604 of the 1974 Act (19 U.S.C. 2483), as amended, authorizes the President to embody in the Harmonized Tariff Schedule (HTS) of the United States the substance of the relevant provisions of that Act, and of other Acts affecting import treatment, and actions thereunder, including removal, modification, continuance, or imposition of any rate of duty or other import restriction.

NOW, THEREFORE, I, Barack Obama, President of the United States of America, acting under the authority vested in me by the Constitution and the laws of the United States of America, including title V and section 604 of the 1974 Act (19 U.S.C. 2461-67, 2483), do proclaim that:

(1) In order to reflect in the HTS the restoration of preferential treatment for Burma as a beneficiary developing country under the GSP program, general note 4(a) is modified by adding in alphabetical order “Burma” to the list entitled “Independent Countries” and to the list entitled “Member Countries of the Association of South East Asian Nations (ASEAN).”

(2) In order to reflect in the HTS the designation of Burma as a least-developed beneficiary developing country under the GSP program, general note 4(b)(i) is modified by adding in alphabetical order “Burma.”

(3) The modifications to the HTS made by paragraphs (1) and (2) of this proclamation shall be effective with respect to articles entered, or withdrawn from warehouse for consumption, on or after the date that is 60 days after the date of this proclamation.

(4) Any provisions of previous proclamations and Executive Orders that are inconsistent with the actions taken in this proclamation are superseded to the extent of such inconsistency.

IN WITNESS WHEREOF, I have hereunto set my hand this fourteenth day of September, in the year of our Lord two thousand sixteen, and of the Independence of the United States of America the two hundred and forty-first.

[FR Doc. 2016-22507

Filed 9-15-16; 8:45 am]

Billing code 3295-F6-P